COMMISSION ON CIVIL RIGHTS

Notice of Cancellation of Public Meeting of the New Jersey Advisory Committee

Notice is hereby given, pursuant to the provisions of the rules and regulations of the U.S. Commission on Civil Rights, that a meeting of the New Jersey Advisory Committee to the Commission which was to have convened at 9:30 a.m. and adjourned at 4:00 p.m. on Friday, June 30, 2000, at the Delaware River Port Authority, Multipurpose Room, 11th Floor, One Port Center, Two River Drive, Camden, New Jersey has been canceled.

The original notice for the meeting was announced in the Federal Register on Thursday, June 1, 2000, FR Doc. 00-13677, 65 FR, No. 106, p. 35045.

Persons desiring additional information should contact Edward Darden, of the Eastern Regional Office, 202-376-7533 (TDD 202-376-8116).

Dated at Washington, DC, June 27, 2000.
Lisa M. Kelly,
Special Assistant to the Staff Director Regional Programs Coordination Unit.

[FR Doc. 00-16599 Filed 6-27-00; 2:16 pm]

BILLING CODE 6335-01-P